DEPARTMENT OF THE TREASURY

Internal Revenue Service

26 CFR Part 54

DEPARTMENT OF LABOR

Employee Benefits Security Administration

29 CFR Parts 2560 and 2590

Extension of Certain Timeframes for Employee Benefit Plans, Participants, Beneficiaries, Qualified Beneficiaries, and Claimants Affected by Hurricane Helene, Tropical Storm Helene, or Hurricane Milton

AGENCIES: Employee Benefits Security Administration, Department of Labor; Internal Revenue Service, Department of the Treasury.

ACTION: Extension of timeframes.

SUMMARY: This document announces the extension of certain timeframes under the Employee Retirement Income Security Act and the Internal Revenue Code for group health plans, disability and other welfare plans, pension plans, and participants, beneficiaries, qualified beneficiaries, and claimants of these plans affected by Hurricane Helene, Tropical Storm Helene, or Hurricane Milton.

DATES: November 8, 2024.

FOR FURTHER INFORMATION CONTACT: Department of Labor, Elizabeth Schumacher or David Sydlik, Office of Health Plan Standards and Compliance Assistance, Employee Benefits Security Administration, at 202-693-8335, and Thomas Hindmarch, Office of Regulations and Interpretations, Employee Benefits Security Administration, at 202-693-8500; or William Fischer, Internal Revenue Service, Department of the Treasury at 202-317-5500.

SUPPLEMENTARY INFORMATION:

I. Purpose

In this document, the Employee Benefits Security Administration, Department of Labor, Internal Revenue Service, and Department of the Treasury (the Agencies) are extending certain timeframes otherwise applicable to group health plans, disability and other welfare benefit plans, pension plans, and their participants, beneficiaries, qualified beneficiaries, and claimants under the Employee Retirement Income Security Act of 1974 (ERISA) and the Internal Revenue Code of 1986 (the Code), under the authority of section 518 of ERISA and section 7508A(b) of the Code.1 2 In order to ensure that plans, participants, beneficiaries, qualified beneficiaries, and claimants in disaster areas are not further adversely affected by Hurricane Helene, Tropical Storm Helene, and Hurricane Milton with respect to their employee benefit plans, certain timeframes are extended during the Relief Period established by this document, as explained in further detail below.

¹ ERISA section 518 and Code section 7508A(b) generally provide that, in the case of an employee benefit plan, sponsor, administrator, participant, beneficiary, or other person with respect to such a plan affected by a federally declared disaster (as defined in section 162(i)(5) of the Code), a terroristic or military action, or a public health emergency declared by the Secretary of Health and Human Services pursuant to section 319 of the Public Health Service Act, notwithstanding any other provision of law, the Secretaries of Labor and the Treasury may prescribe (by notice or otherwise) a period of up to 1 year that may be disregarded in determining the date by which any action is required or permitted to be completed. Section 518 of ERISA and section 7508A(b) of the Code further provide that no plan shall be treated as failing to be operated in accordance with the terms of the plan solely as a result of complying with the postponement of a deadline under those sections.

² See, e.g., Hurricane Helene Recovery: Brief Overview of FEMA Programs and Resources, (October 3, 2024), available at https://crsreports.congress.gov/product/pdf/IN/IN12429; 89 FR 84908 (October 24, 2024); 89 FR 84923 (October 24, 2024); 89 FR 84919 (October 24, 2024); 89 FR 84914 (October 24, 2024); 89 FR 84912 (October 24, 2024); 89 FR 84920 (October 24, 2024).

As a result of Hurricane Helene, Tropical Storm Helene, and Hurricane Milton, participants, beneficiaries, qualified beneficiaries, and claimants covered by group health plans, disability or other employee welfare benefit plans, and employee pension benefit plans may encounter problems in exercising their health coverage portability and continuation coverage rights, or in filing or perfecting their benefit claims. Recognizing the numerous challenges such individuals already face as a result of these natural disasters, it is important that the Agencies take steps to minimize the possibility of such individuals losing benefits because of a failure to comply with certain pre-established timeframes. Similarly, the Agencies recognize that affected group health plans may have difficulty in complying with the timing of certain notice obligations.

The Agencies believe the relief established by this document is immediately needed to preserve and protect the benefits of participants, beneficiaries, qualified beneficiaries, and claimants in affected plans. Accordingly, the Agencies have determined, pursuant to section 553 of the Administrative Procedure Act, 5 U.S.C. 553(b)(A), (B) and 553(d), that there is good cause for granting the relief provided by this document effective immediately upon publication, and that notice and public participation may result in undue delay and, therefore, be contrary to the public interest.

This document has been reviewed by the Department of Health and Human Services (HHS), which has advised the Agencies that HHS concurs with the relief specified in this document in the application of the laws under its jurisdiction.³

³ Section 104 of Title I of the Health Insurance Portability and Accountability Act of 1996 (HIPAA) requires that the Secretaries of Labor, the Treasury, and Health and Human Services (the Departments) ensure through an interagency Memorandum of Understanding (MOU) that regulations, rulings, and interpretations issued by each of the Departments relating to the same matter over which two or more departments have jurisdiction, are administered so as to have the same effect at all times. Under section 104 of HIPAA, the Departments, through the MOU, are to provide for coordination of policies relating to enforcement of the same requirements in order to have a coordinated enforcement strategy that avoids duplication of enforcement efforts and assigns priorities in enforcement. See section 104 of HIPAA and Memorandum of Understanding applicable to Title XXVII of the PHS Act, Part 7 of ERISA, and Chapter 100 of the Code, published at 64 FR 70164, December 15, 1999.

HHS has advised the Agencies that HHS encourages plan sponsors of non-Federal governmental plans and health insurance issuers offering group or individual health insurance coverage to extend otherwise applicable timeframes under titles XXII and XXVII of the Public Health Service Act (PHS Act) ⁴ for participants, beneficiaries, and enrollees in a manner consistent with the relief provided in this document.

⁴ The applicable PHS Act provisions are (1) the 30-day period (or 60-day period, if applicable) to request special enrollment under PHS Act section 2704(f); (2) the 60-day election period for COBRA continuation coverage under PHS Act section 2205; (3) the date for making COBRA premium payments pursuant to PHS Act section 2202(2)(C) and (3); (4) the date for individuals to notify the plan of a qualifying event or determination of disability under PHS Act section 2206(3); (5) the date within which individuals may file a benefit claim under the plan's claims procedure pursuant to 45 CFR 147.136(b) (incorporating 29 CFR 2560.503-1); (6) the date within which claimants may file an appeal of an adverse benefit determination under the plan's claims procedure pursuant to 45 CFR 147.136(b) (incorporating 29 CFR 2560.503-1(h)); (7) the date within which claimants may file a request for an external review after receipt of an adverse benefit determination or final internal adverse benefit determination pursuant to 45 CFR 147.136(c)(2)(vi) and (d)(2)(i), and (8) the date within which a claimant may file information to perfect a request for external review upon a finding that the request was not complete pursuant to 45 CFR 147.136(d)(2)(ii).

The relief provided by this document supplements other disaster relief guidance issued by the Agencies, which can be accessed at: https://www.dol.gov/agencies/ebsa/employers-and-advisers/plan-administration-and-compliance/disaster-relief and https://www.irs.gov/newsroom/tax-relief-in-disaster-situations.

II. Background

Title I of the Health Insurance Portability and Accountability Act of 1996 (HIPAA) provides portability of health coverage by, among other things, requiring special enrollment rights into group health plans upon the loss of eligibility for other coverage or gaining a dependent through marriage, birth, adoption or placement for adoption. ERISA section 701, Code section 9801, 29 CFR 2590.701-6, 26 CFR 54.9801-6. Title X of the Consolidated Omnibus Budget Reconciliation Act of 1985 (COBRA) permits certain qualified beneficiaries who lose coverage under a group health plan to elect continuation health coverage. ERISA section 601, Code section 4980B, 26 CFR 54.4980B-1. Section 503 of ERISA and 29 CFR 2560.503-1 require employee benefit plans subject to Title I of ERISA to establish and maintain reasonable procedures governing the determination and appeal of claims for benefits under the plan. Section 2719 of the PHS Act, incorporated into ERISA by ERISA section 715, and into the Code by Code section 9815, imposes additional rights and obligations with respect to internal claims and appeals and external review for non-grandfathered group health plans and health insurance issuers offering non-grandfathered group or individual health insurance coverage. See also 29 CFR 2590.715-2719 and 26 CFR 54.9815-2719. All of the foregoing provisions include timing requirements for certain acts in connection with employee benefit plans, some of which are being temporarily modified by this document.

A. Special Enrollment Timeframes

In general, HIPAA requires a special enrollment period in certain circumstances, including when an employee or dependent loses eligibility for any group health plan or other health insurance coverage in which the employee or the employee's dependents were previously enrolled (including coverage under Medicaid and the Children's Health Insurance Program), and when a person becomes a dependent of an eligible employee by birth, marriage, adoption, or placement for adoption. ERISA section 701(f), Code section 9801(f), 29 CFR 2590.701-6, and 26 CFR 54.9801-6. Generally, group health plans must allow such individuals to enroll in the group health plan if they are otherwise eligible and if enrollment is requested within 30 days after the occurrence of the event (or within 60 days, in the case of termination of Medicaid or CHIP coverage, or eligibility for employment assistance under Medicaid or CHIP). ERISA section 701(f), Code section 9801(f), 29 CFR 2590.701-6, and 26 CFR 54.9801-6.

B. COBRA Timeframes

The COBRA continuation coverage provisions generally provide a qualified beneficiary a period of at least 60 days to elect COBRA continuation coverage under a group health plan. ERISA section 605 and Code section 4980B(f)(5). Plans are required to allow payment of premiums in monthly installments, and plans cannot require payment of premiums before 45 days after the day of the initial COBRA election. ERISA section 602(3) and Code section 4980B(f)(2)(C). COBRA continuation coverage may be terminated for failure to pay premiums timely. ERISA section 602(2)(C) and Code section 4980B(f)(2)(B)(iii). Under the COBRA rules, a premium is considered paid timely if it is made not later than 30 days after the first day of the period for which payment is being made. ERISA section 602(2)(C), Code section 4980B(f)(2)(B)(iii), and 26 CFR 54.4980B-8 Q&A-5(a). Notice requirements prescribe time periods for employers to notify the plan of certain qualifying events and for individuals to notify the plan of certain qualifying events or a determination of disability. Notice requirements also prescribe a time period for plans to notify qualified beneficiaries of their rights to elect COBRA continuation coverage. ERISA section 606, Code section 4980B(f)(6), and 29 CFR 2590.606-3.

C. Claims Procedure Timeframes

Section 503 of ERISA and 29 CFR 2560.503-1, as well as section 2719 of the PHS Act, incorporated into ERISA by ERISA section 715 and 29 CFR 2590.715-2719, and into the Code by Code section 9815 and 26 CFR 54.9815-2719, require ERISA-covered employee benefit plans and non-grandfathered group health plans and health insurance issuers offering non-grandfathered group or individual health insurance coverage to establish and maintain a procedure governing the filing and initial disposition of benefit claims, and to provide claimants with a reasonable opportunity to appeal an adverse benefit determination to an appropriate named fiduciary. Plans may not have provisions that unduly inhibit or hamper the initiation or processing of claims for benefits. Further, group health plans and disability plans must provide claimants at least 180 days following receipt of an adverse benefit determination to appeal (60 days in the case of pension plans and other welfare benefit plans). 29 CFR 2560.503-1(h)(2)(i), 29 CFR 2560.503-1(h)(3)(i), 29 CFR 2560.503-1(h)(4), 29 CFR 2590.715-2719(b)(2)(ii)(C), and 26 CFR 54.9815-2719(b)(2)(ii)(C).

D. External Review Process Timeframes

PHS Act section 2719, incorporated into ERISA by ERISA section 715 and into the Code by Code section 9815, sets out standards for external review that apply to non-grandfathered group health plans and health insurance issuers offering non-grandfathered group or individual health insurance coverage and provides for either a State external review process or a Federal external review process. Standards for external review processes and timeframes for submitting claims to the independent reviewer for group health plans or health insurance issuers may vary depending on whether a plan uses a State or Federal external review process. For plans or issuers that use the Federal external review process, the process must allow at least 4 months after the receipt of a notice of an adverse benefit determination or final internal adverse benefit determination for a request for an external review to be filed. 29 CFR 2590.715-2719(d)(2)(i) and 26 CFR 54.9815-2719(d)(2)(i). The Federal external review process also provides for a preliminary review of a request for external review. The regulation provides that if such request is not complete, the Federal external review process must provide for a notification that describes the information or materials needed to make the request complete, and the plan or issuer must allow a claimant to perfect the request for external review within the 4-month filing period or within the 48-hour period following the receipt of the notification, whichever is later. 29 CFR 2590.715-2719(d)(2)(ii)(B) and 26 CFR 54.9815-2719(d)(2)(ii)(B).

III. Relief

A. Relief for Plan Participants, Beneficiaries, Qualified Beneficiaries, and Claimants

With respect to plan participants, beneficiaries, qualified beneficiaries, or claimants directly affected by Hurricane Helene, Tropical Storm Helene, or Hurricane Milton (as defined in paragraph III.C.(1)), group health plans, disability and other employee welfare benefit plans, and employee pension benefit plans subject to ERISA or the Code must disregard the relevant Relief Period (as defined in paragraph II.C.(4)) for plan participants, beneficiaries, qualified beneficiaries, or claimants located in Florida, Georgia, North Carolina, South Carolina, Tennessee, and Virginia in determining the following periods and dates—

(1) The 30-day period (or 60-day period, if applicable) to request special enrollment under ERISA section 701(f) and Code section 9801(f),

(2) The 60-day election period for COBRA continuation coverage under ERISA section 605 and Code section 4980B(f)(5),⁵

⁵ The term “election period” is defined as “the period which—(A) begins not later than the date on which coverage terminates under the plan by reason of a qualifying event, (B) is of at least 60 days' duration, and (C) ends not earlier than 60 days after the later of—(i) the date described in subparagraph (A), or (ii) in the case of any qualified beneficiary who receives notice under section 1166(a)(4) of this title, the date of such notice.” 29 U.S.C. 1165(a)(1), ERISA section 605(a)(1). See also Code section 4980B(f)(5).

(3) The date for making COBRA premium payments pursuant to ERISA section 602(2)(C) and (3) and Code section 4980B(f)(2)(B)(iii) and (C),⁶

⁶ Under this provision, the group health plan must treat the COBRA premium payments as timely paid if paid in accordance with the periods and dates set forth in this document. Regarding coverage during the election period and before an election is made, see 26 CFR 54.4980B-6, Q&A 3; during the period between the election and payment of the premium, see 26 CFR 54.4980B-8, Q&A 5(c).

(4) The date for individuals to notify the plan of a qualifying event or determination of disability under ERISA section 606(a)(3) and Code section 4980B(f)(6)(C),

(5) The date within which individuals may file a benefit claim under the plan's claims procedure pursuant to 29 CFR 2560.503-1,

(6) The date within which claimants may file an appeal of an adverse benefit determination under the plan's claims procedure pursuant to 29 CFR 2560.503-1(h),

(7) The date within which claimants may file a request for an external review after receipt of an adverse benefit determination or final internal adverse benefit determination pursuant to 29 CFR 2590.715-2719(d)(2)(i) and 26 CFR 54.9815-2719(d)(2)(i), and

(8) The date within which a claimant may file information to perfect a request for external review upon a finding that the request was not complete pursuant to 29 CFR 2590.715-2719(d)(2)(ii) and 26 CFR 54.9815-2719(d)(2)(ii).

B. Relief for Group Health Plans

With respect to group health plans subject to ERISA or the Code, and their sponsors and administrators affected by Hurricane Helene, Tropical Storm Helene, or Hurricane Milton, the relevant Relief Period shall be disregarded when determining the date for providing a COBRA election notice under ERISA section 606(c) and Code section 4980B(f)(6)(D).

C. Definitions

For purposes of this document—

(1) A participant, beneficiary, qualified beneficiary, or claimant directly affected by Hurricane Helene, Tropical Storm Helene, or Hurricane Milton means an individual who resided, lived, or worked in one of the disaster areas (as defined in paragraph III.C.(2)) at the time of the hurricane or tropical storm; or whose coverage was under an employee benefit plan that was directly affected (as defined in paragraph III.C.(3)).

(2) The term disaster areas means the counties or tribal areas in Florida, Georgia, North Carolina, South Carolina, Tennessee, and Virginia that have been or are later designated as disaster areas eligible for Individual Assistance by the Federal Emergency Management Agency (FEMA) because of the devastation caused by Hurricane Helene, Tropical Storm Helene, or Hurricane Milton.

(3) An employee benefit plan is directly affected by Hurricane Helene, Tropical Storm Helene, or Hurricane Milton if the principal place of business of the employer that maintains the plan (in the case of a single-employer plan, determined disregarding the rules of section 414(b) and (c) of the Code); the principal place of business of employers that employ more than 50 percent of the active participants covered by the plan (in the case of a plan covering employees of more than one employer, determined disregarding the rules of section 414(b) and (c) of the Code); or the office of the plan or the plan administrator; or the office of the primary recordkeeper serving the plan, was located in one of the disaster areas (as defined in paragraph III.C.(2)) at the time of the hurricane or tropical storm.

(4) The term “Relief Period” means—

(i) For disaster areas in Florida designated as eligible for Individual Assistance by FEMA because of the devastation caused by Hurricane Helene, the period beginning on September 23, 2024, and ending on May 1, 2025;

(ii) For disaster areas in Georgia designated as eligible for Individual Assistance by FEMA because of the devastation caused by Hurricane Helene, the period beginning on September 24, 2024, and ending on May 1, 2025;

(iii) For disaster areas in North Carolina, South Carolina, and Virginia designated as eligible for Individual Assistance by FEMA because of the devastation caused by Hurricane Helene or Tropical Storm Helene, the period beginning on September 25, 2024, and ending on May 1, 2025;

(iv) For disaster areas in Tennessee designated as eligible for Individual Assistance by FEMA because of the devastation caused by Tropical Storm Helene, the period beginning on September 26, 2024, and ending on May 1, 2025; and

(v) For disaster areas in Florida not designated as eligible for Individual Assistance by FEMA because of the devastation caused by Hurricane Helene (but designated as eligible for Individual Assistance by FEMA because of the devastation caused by Hurricane Milton), the period beginning October 5, 2024 and ending on May 1, 2025.

D. Later Extensions

The Agencies will continue to monitor the effects of Hurricane Helene, Tropical Storm Helene, and Hurricane Milton and may provide additional relief as warranted.

IV. Examples

The following examples illustrate the timeframe for extensions required by this document. In each example, assume that the individual described is directly affected by the hurricane or tropical storm.

Example 1 (Electing COBRA). (i) Facts. Individual A works for Employer X in Buncombe County, NC and participates in X's group health plan. Due to Tropical Storm Helene, X's business is destroyed, and the plan terminates. Individual A has no other coverage. Employer Y is part of the same controlled group as Employer X and continues to operate and sponsor a group health plan. Individual A is provided a COBRA election notice on December 1, 2024. What is the deadline for Individual A to elect COBRA?

(ii) Conclusion. In Example 1, Individual A is eligible to elect COBRA coverage under Employer Y's plan because Employer Y is in the same controlled group as Employer X.⁷ The Relief Period is disregarded for purposes of determining Individual A's COBRA election period. The last day of Individual A's COBRA election period is 60 days after May 1, 2025, which is June 30, 2025.

⁷ Under the COBRA rules, an employee's COBRA continuation coverage period continues even after the end of the plan, if the employer continues to provide any group health plan to any employee. Code section 4980B(f)(2)(B)(ii) and ERISA 602(2)(B). For purposes of COBRA, “employer” includes the person for whom services are performed and any other person that is a member of a group described in Code section 414(b), (c), (m), or (o). 26 CFR 54.4980B-2, Q&A 2.

Example 2 (Special enrollment period). (i) Facts. Individual B resides in Columbia, South Carolina. Individual B is eligible for, but previously declined participation in, her employer-sponsored group health plan. On October 31, 2024, Individual B gives birth and would like to enroll herself and the child into her employer's plan; however, open enrollment does not begin until November 15, for coverage that begins January 1. When may Individual B exercise her special enrollment rights?

(ii) Conclusion. In Example 2, the Relief Period is disregarded for purposes of determining Individual B's and her child's special enrollment period. Individual B and her child qualify for special enrollment into her employer's plan for coverage that begins on the date of the child's birth, to the extent she satisfies all of the plan's conditions for special enrollment that the plan may apply under Federal law. Individual B may exercise her special enrollment rights for herself and her child until 30 days after May 1, 2025, which is May 31, 2025, provided that she pays her share of the premiums for any period of coverage.

Example 3 (COBRA premium payments). (i) Facts. Individual C resides in Chatham County, Georgia. Before the hurricane, Individual C was receiving COBRA continuation coverage under a group health plan. More than 45 days had passed since Individual C had elected COBRA. Monthly premium payments are due by the first of the month. The plan does not permit qualified beneficiaries longer than the statutory 30-day grace period for making premium payments. Individual C made a timely September payment, but did not make the October payment or any subsequent payments during the Relief Period. As of May 1, 2025, Individual C has made no premium payments for October, November, December, January, February, March, April, or May. Does Individual C lose COBRA coverage, and if so for which month(s)?

(ii) Conclusion. In this Example 3, the Relief Period is disregarded for purposes of determining whether monthly COBRA premium installment payments are timely. Premium payments made by 30 days after May 1, 2025, which is May 31, 2025, for October, November, December, January, February, March, April, and May, are timely, and Individual C is entitled to COBRA continuation coverage for these months if she timely makes payment. Under the terms of the COBRA statute, premium payments are timely if made within 30 days from the date they are first due. In calculating the 30-day period, however, the Relief Period is disregarded, and payments for October, November, December, January, February, March, and April are all deemed to be timely if they are made within 30 days after the end of the Relief Period. Premium payments for May are deemed timely if they are made within 30 days after they are first due (May 1). Accordingly, premium payments for October, November, December, January, February, March, and April, as well as premium payments for May, are all due by May 31, 2025. Since the due dates for Individual C's premiums would be postponed and Individual C's payment for premiums would be retroactive during the initial COBRA election period, Individual C's insurer or plan may initially deny claims and then, after premiums are paid, must make retroactive payment for benefits and services received by the participant during this time.

Example 4 (COBRA premium payments). (i) Facts. Same facts as Example 3. By May 31, 2025, Individual C made a payment equal to two months' premiums. For how long does Individual C have COBRA continuation coverage?

(ii) Conclusion. Individual C is entitled to COBRA continuation coverage for October and November of 2024, the two months for which timely premium payments were made, and Individual C is not entitled to COBRA continuation coverage for any month after November 2024. Items and services covered by the group health plan (e.g., doctors' visits or filled prescriptions) that were furnished on or before November 30, 2024 would be covered under the terms of the plan. The plan would not be obligated to cover items or services furnished after November 30, 2024.

Example 5 (Claims for medical treatment under a group health plan). (i) Facts. Individual D lives in Caldwell County, North Carolina and is a participant in a group health plan. On October 15, 2023, Individual D received medical treatment for a condition covered under the plan, but a claim relating to the medical treatment was not submitted until October 20, 2024. Under the plan, claims must be submitted within 365 days of the participant's receipt of the medical treatment. Was Individual D's claim timely?

(ii) Conclusion. Yes. Absent this relief, the last day for Individual D to submit a claim was October 14, 2024. For purposes of determining the 365-day period applicable to Individual D's claim, the Relief Period is disregarded. As of the first day of the Relief Period, Individual D had 19 days to file the claim (September 25, 2024, through October 14, 2024). Therefore, Individual D's last day to submit a claim is 19 days after May 1, 2025, which is May 20, 2025, so Individual D's claim was timely. If the plan has already denied Individual D's claim as untimely, the claim may have to be resubmitted and, if the claim is fully or partially denied, the plan may need to send an updated adverse benefit determination.

Example 6 (Internal appeal—disability plan). (i) Facts. Individual E resides in Gulf County, Florida and received a notification of an adverse benefit determination from Individual E's disability plan on August 28, 2024. The notification advised Individual E that there are 180 days within which to file an appeal. What is Individual E's appeal deadline?

(ii) Conclusion. When determining the 180-day period within which Individual E's appeal must be filed, the Relief Period is disregarded. Therefore, Individual E's last day to submit an appeal is 154 days (180—26 days following August 28 to September 23) after May 1, 2025, which is October 2, 2025.

Example 7 (Internal appeal—employee pension benefit plan). (i) Facts. Individual F resides in Greene County, Tennessee and received a notice of adverse benefit determination from Individual F's 401(k) plan on November 15, 2024. The notification advised Individual F that there are 60 days within which to file an appeal. What is Individual F's appeal deadline?

(ii) Conclusion. When determining the 60-day period within which Individual F's appeal must be filed, the Relief Period is disregarded. Therefore, Individual F's last day to submit an appeal is 60 days after May 1, 2025, which is June 30, 2025.

Signed at Washington, DC, this 4th day of November, 2024.
Lisa M. Gomez,
Assistant Secretary, Employee Benefits Security Administration, Department of Labor.
Douglas W. O'Donnell,
Deputy Commissioner, Internal Revenue Service, Department of the Treasury.

[FR Doc. 2024-26014 Filed 11-7-24; 8:45 am]

BILLING CODE P